DEPARTMENT OF COMMERCE

International Trade Administration

[A-822-806, A-821-824, A-520-808]

Certain Carbon and Alloy Steel Wire Rod From Belarus, the Russian Federation, and the United Arab Emirates: Affirmative Final Determinations of Sales at Less Than Fair Value and Partial Affirmative Finding of Critical Circumstances

AGENCY: Enforcement and Compliance, International Trade Administration, Department of Commerce.

SUMMARY: The Department of Commerce (the Department) determines that imports of carbon and alloy steel wire rod (wire rod) from Belarus, the Russian Federation (Russia), and the United Arab Emirates (the UAE) are being, or are likely to be, sold in the United States at less than fair value (LTFV). The final estimated dumping margins of sales at LTFV are shown in in the “Final Determinations” section of this notice.

DATES: Applicable November 28, 2017.

FOR FURTHER INFORMATION CONTACT: Rebecca Janz at (202) 482-2972 (Belarus), Kaitlin Wojnar at (202) 482-3857 (Russia), Carrie Bethea (UAE) at (202) 482-1491, AD/CVD Operations, Enforcement and Compliance, International Trade Administration, U.S. Department of Commerce, 1401 Constitution Avenue NW., Washington, DC 20230.

SUPPLEMENTARY INFORMATION:

Background

On September 12, 2017, the Department published the preliminary affirmative determination of critical circumstances concerning Russia and the preliminary determinations of sales at LTFV in the investigations of wire rod from Belarus, Russia, and the UAE.¹ We invited interested parties to comment on these preliminary determinations. We received no comments on the Preliminary LTFV Determinations but did receive comments on the scope of these investigations. Additionally, no interested party requested a hearing.

¹ See Certain Carbon and Alloy Steel Wire Rod from the Russian Federation and the United Arab Emirates: Affirmative Preliminary Determinations of Sales at Less Than Fair Value, and Affirmative Preliminary Determination of Critical Circumstances for Imports of Certain Carbon and Alloy Steel Wire Rod from the Russian Federation, 82 FR at 42794 (September 12, 2017) (Preliminary LTFV Determinations Russia & UAE), and accompanying Preliminary Decision Memorandum (PDM); and Carbon and Alloy Steel Wire Rod from Belarus: Preliminary Determination of Sales at Less Than Fair Value, 82 FR 42796 (September 12, 2017) (Preliminary LTFV Determination Belarus), and accompanying PDM (collectively, Preliminary LTFV Determinations).

Scope of the Investigations

The products covered by these investigations are wire rod from Belarus, Russia, and the UAE. For a complete description of the scope of the Belarus, Russia, and the UAE investigations, see the Appendix to this notice.

Scope Comments

During the course of these investigations, the Department received numerous scope comments from interested parties. Prior to the Preliminary LTFV Determinations, the Department issued a Preliminary Scope Decision Memorandum to address these comments. As a result of these comments, the Department made no changes to the scope of these investigations as it appeared in the Initiation Notice.²

² For discussion of these comments, see Memorandum, “Carbon and Alloy Steel Wire Rod from Belarus, Italy, the Republic of Korea, the Russian Federation, South Africa, Spain, the Republic of Turkey, Ukraine, the United Arab Emirates, and the United Kingdom: Scope Comments Decision Memorandum for the Preliminary Determination” (Preliminary Scope Decision Memorandum), dated August 7, 2017; see also Carbon and Alloy Steel Wire Rod from Belarus, Italy, the Republic of Korea, the Russian Federation, South Africa, Spain, the Republic of Turkey, Ukraine, United Arab Emirates, and United Kingdom: Initiation of Less-Than-Fair-Value Investigations, 82 FR 19207 (April 20, 2017) (Initiation Notice).

In September 2017, we received scope case and rebuttal briefs. On November 20, 2017, we issued the Final Scope Decision Memorandum in response to these comments in which we did not change the scope of these investigations.³

³ For discussion of these comments, see Memorandum, “Carbon and Alloy Steel Wire Rod from Belarus, Italy, the Republic of Korea, the Russian Federation, South Africa, Spain, the Republic of Turkey, Ukraine, the United Arab Emirates, and the United Kingdom: Final Scope Memorandum” (Final Scope Decision Memorandum), dated November 20, 2017.

Period of Investigations

The period of investigation (POI) is January 1, 2016, through December 31, 2016, for Russia and the UAE. Because Belarus is a non-market economy (NME) country, the POI for that investigation is July 1, 2016, through December 31, 2016.

Verification

Because the mandatory respondents in the Russian and UAE investigations did not provide the information requested, and the Department determined that Byelorussian Steel Works (BSW) was uncooperative, the Department did not conduct verifications under section 782(i)(1) of the Act.

Analysis of Comments Received, Use of Adverse Facts Available, and Changes Since the Preliminary Determinations

As noted above, we received no comments pertaining to the Preliminary LTFV Determinations.

As stated in the Preliminary LTFV Determination Belarus, we found that BSW is not eligible for separate rate status because it is wholly-owned by the Government of Belarus. We also found in the Preliminary LTFV Determinations that the Belarus-wide entity, as well as the mandatory respondents in the investigations involving Russia and the UAE,⁴ withheld information that the Department requested and failed to provide information by the specified deadlines. This significantly impeded the proceedings, and accordingly, resulted in the Department relying on facts otherwise available, pursuant to sections 776(a)(1) and 776(a)(2)(A)-(C) of the Tariff Act of 1930, as amended (the Act). Further, we found that these respondents did not cooperate to the best of their abilities to comply with our requests for information, and, accordingly, we determined it appropriate to apply adverse inferences in selecting from the facts available, pursuant to section 776(b) of the Act and 19 CFR 351.308(a).⁵ For the purposes of the final determinations, we continue to find that, in accordance with sections 776(a)-(b) of the Act, application of facts otherwise available with adverse inferences is appropriate. Accordingly, the Department has made no changes to the Preliminary LTFV Determinations, and no decision memoranda accompany this Federal Register notice.

⁴ Abinsk Electric Steel Works Ltd. (Abinsk) and JSC NLMK-Ural (NLMK Ural) (Russia), and Emirates Steel Industries PJSC (Emirates Steel) (UAE).

⁵ See Preliminary LTFV Determinations Russia and UAE, 82 FR at 42794, and accompanying PDM at 4-6; and Preliminary LTFV Determination Belarus, 82 FR at 42797, and accompanying PDM at 6-10.

Final Affirmative Determinations of Critical Circumstances

For Russia, in accordance with section 733(e)(1) of the Act and 19 CFR 351.206, we preliminarily found that critical circumstances exist with respect to mandatory respondents, Abinsk and NLMK Ural, and all other producers and exporters of wire rod from Russia (All Others).⁶ As stated above, the Department received no comments concerning the Preliminary LTFV Determinations. Thus, for these final determinations, we continue to find that, in accordance with section 735(a)(3) of the Act and 19 CFR 351.206, critical circumstances exist for imports from all producers and exporters of wire rod from Russia.

⁶ See Preliminary LTFV Determinations Russia and UAE, 82 FR at 42795.

All-Others Rate

As discussed in the Preliminary LTFV Determinations, the Department based the selection of the “All-Others” rates in Russia and the UAE, on the dumping margins alleged in the Petitions,⁷ in accordance with section 735(c)(5)(B) of the Act. We made no changes to the selection of these rates for these final determinations.⁸

⁷ See the Petitions for the Imposition of Antidumping Duties on Carbon and Alloy Steel Wire Rod from Belarus, Italy, the Republic of Korea, the Russian Federation, the Republic of South Africa, Spain, Turkey, Ukraine, United Arab Emirates, and the United Kingdom, dated March 28, 2017 (the Petitions).

⁸ See Preliminary LTFV Determinations Russia and UAE, 82 FR at 42795.

Final Determinations

The final estimated weighted-average dumping margins are as follows:

Exporter or producer | Estimated weighted- average dumping margin (percent)
Belarus
Belarus-Wide Entity ⁹ | 280.02
Russia
Abinsk Electric Steel Works Ltd | 756.93
JSC NLMK-Ural | 756.93
All-Others | 436.80
UAE
Emirates Steel Industries PJSC | 84.10
All-Others | 84.10
⁹ The Belarus-wide entity includes BSW, the sole mandatory respondent in the investigation of wire rod from Belarus.

Continuation of Suspension of Liquidation

In accordance with section 733(d)(2) of the Act, for these final determinations, we will direct U. S. Customs and Border Protection (CBP) to suspend liquidation of all entries of wire rod from Russia, as described in the Appendix to this notice, which were entered, or withdrawn from warehouse, for consumption on or after June 14, 2017 (90 days prior to the date of publication of the Preliminary LTFV Determinations), because we continue to find that critical circumstances exist with regard to imports from all producers and exporters of wire rod from Russia.

In accordance with section 735(c)(1)(B) of the Act, for these final determinations, the Department will instruct CBP to continue to suspend liquidation of all entries of wire rod from Belarus and the UAE, as described in the Appendix to this notice, which were entered or withdrawn from warehouse, for consumption on or after September 12, 2017, the date of publication of the preliminary determinations of the Belarus and UAE investigations in the Federal Register.

With respect to entries from Belarus, pursuant to section 735(c)(1)(B) of the Act and 19 CFR 351.210(d), CBP shall require a cash deposit equal to the estimated amount by which the normal value exceeds the U.S. price as shown above.

With respect to entries from Russia, pursuant to section 735(c)(1)(B)(ii) of the Act, CBP shall require a cash deposit equal to the weighted-average amount by which normal value exceeds U.S. price, as follows: (1) For Abinsk and NLMK Ural, the cash deposit rate will be equal to the estimated weighted-average dumping margin which the Department determined in this final determination; (2) if the exporter is not a firm identified in this investigation but the producer is, then the cash deposit rate will be equal to the estimated weighted-average dumping margin established for the producer of the subject merchandise; (3) the cash deposit rate for all other producers or exporters will be 436.80 percent, as discussed in the “All-Others Rate” section, above.

With respect to entries from the UAE, pursuant to section 735(c)(1)(B)(ii) of the Act, CBP shall require a cash deposit equal to the weighted-average amount by which normal value exceeds U.S. price, as follows: (1) For Emirates Steel, the cash deposit rate will be equal to the estimated weighted-average dumping margin which the Department determined in this final determination; (2) if the exporter is not a firm identified in this investigation but the producer is, then the cash deposit rate will be equal to the estimated weighted-average dumping margin established for the producer of the subject merchandise; (3) the cash deposit rate for all other producers or exporters will be 84.10 percent, as discussed in the “All-Others Rate” section, above.

These instructions suspending liquidation will remain in effect until further notice.

Disclosure

The estimated weighted-average dumping margins assigned to the mandatory respondents in these investigations in the Preliminary LTFV Determinations were based on adverse facts available. As we made no changes to these margins since the Preliminary LTFV Determinations, no disclosure of calculations is necessary for these final determinations.

International Trade Commission Notification

In accordance with section 735(d) of the Act, we will notify the U.S. International Trade Commission (ITC) of our final determination of sales at LTFV for Belarus, Russia, and the UAE and final affirmative determination of critical circumstances for Russia. Because the final determinations in these proceedings are affirmative, the ITC will make its final determination as to whether the domestic industry in the United States is materially injured, or threatened with material injury, by reason of imports of wire rod from Belarus, Russia, and the UAE no later than 45 days after our final determination, in accordance with section 735(b)(2) of the Act. If the ITC determines that such injury does not exist, these proceedings will be terminated and all cash deposits posted will be refunded or cancelled. If the ITC determines that such injury exists, the Department will issue antidumping duty orders directing CBP to assess upon further instruction by the Department, antidumping duties on all imports of the subject merchandise entered, or withdrawn from warehouse, for consumption on or after the effective date of the suspension liquidation.

Notification Regarding Administrative Protective Orders

This notice serves as a reminder to parties subject to an administrative protective order (APO) of their responsibility concerning the disposition of proprietary information disclosed under APO in accordance with 19 CFR 351.305(a)(3). Timely written notification of the return or destruction of APO materials, or conversion to judicial protective order, is hereby requested. Failure to comply with the regulations and the terms of an APO is a sanctionable violation.

Notification to Interested Parties

These determinations are issued and published in accordance with sections 735(d) and 777(i)(1) of the Act and 19 CFR 351.210(c).

Dated: November 20, 2017.
Gary Taverman,
Deputy Assistant Secretary for Antidumping and Countervailing Duty Operations, performing the non-exclusive functions and duties of the Assistant Secretary for Enforcement and Compliance.

Appendix

Scope of the Investigations

The merchandise covered by these investigations are certain hot-rolled products of carbon steel and alloy steel, in coils, of approximately round cross section, less than 19.00 mm in actual solid cross-sectional diameter. Specifically excluded are steel products possessing the above-noted physical characteristics and meeting the Harmonized Tariff Schedule of the United States (HTSUS) definitions for (a) stainless steel; (b) tool steel; (c) high-nickel steel; (d) ball bearing steel; or (e) concrete reinforcing bars and rods. Also excluded are free cutting steel (also known as free machining steel) products (i.e., products that contain by weight one or more of the following elements: 0.1 percent or more of lead, 0.05 percent or more of bismuth, 0.08 percent or more of sulfur, more than 0.04 percent of phosphorous, more than 0.05 percent of selenium, or more than 0.01 percent of tellurium). All products meeting the physical description of subject merchandise that are not specifically excluded are included in this scope.

The products under investigation are currently classifiable under subheadings 7213.91.3011, 7213.91.3015, 7213.91.3020, 7213.91.3093; 7213.91.4500, 7213.91.6000, 7213.99.0030, 7227.20.0030, 7227.20.0080, 7227.90.6010, 7227.90.6020, 7227.90.6030, and 7227.90.6035 of the HTSUS. Products entered under subheadings 7213.99.0090 and 7227.90.6090 of the HTSUS also may be included in this scope if they meet the physical description of subject merchandise above. Although the HTSUS subheadings are provided for convenience and customs purposes, the written description of the scope of this proceeding is dispositive.

[FR Doc. 2017-25659 Filed 11-27-17; 8:45 am]

BILLING CODE 3510-DS-P